DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or Assistant Director for Enforcement, Compliance & Analysis, tel.: 202-622-2490.

SUPPLEMENTARY INFORMATION:

Electronic Availability

The Specially Designated Nationals and Blocked Persons List and additional information concerning OFAC sanctions programs are available on OFAC's website (https://ofac.treasury.gov/).

Notice of OFAC Action(s)

On June 6, 2023, OFAC determined that the property and interests in property subject to U.S. jurisdiction of the following persons are blocked under the relevant sanctions authority listed below.

Individuals

1. DAMGHANI, Davoud (a.k.a. DAMGHANI, Davood; a.k.a. DAMGHANI, Davud; a.k.a. DAMQANI, Davood; a.k.a. DAMQANI, Davoud), Beijing, China; DOB 14 Mar 1971; POB Tehran, Iran; nationality Iran; Additional Sanctions Information—Subject to Secondary Sanctions; Gender Male; Passport D10003642 (Iran) issued 30 Jun 2018 expires 30 Jun 2023; National ID No. 0053758110 (Iran) (individual) [NPWMD] [IFSR] (Linked To: MINISTRY OF DEFENSE AND ARMED FORCES LOGISTICS).

Designated pursuant to section 1(a)(iv) of Executive Order 13382 of June 28, 2005, “Blocking Property of Weapons of Mass Destruction Proliferators and Their Supporters” (“E.O. 13382”), 70 FR 38567, 3 CFR, 2005 Comp., p. 170, for acting or purporting to act for or on behalf of, directly or indirectly, MINISTRY OF DEFENSE AND ARMED FORCES LOGISTICS, a person whose property and interests in property are blocked pursuant to E.O. 13382.

2. GONG, Jiao, China; DOB 17 Feb 1995; POB Heibei, China; nationality China; Additional Sanctions Information—Subject to Secondary Sanctions; Gender Female; National ID No. 130321199502170121 (China) (individual) [NPWMD] [IFSR] (Linked To: WEI, Zunyi).

Designated pursuant to section 1(a)(iii) of E.O. 13382 for having provided, or attempted to provide, financial, material, technological or other support for, or goods or services in support of, WEI, Zunyi, a person whose property and interests in property are blocked pursuant to E.O. 13382.

3. HAGHIGHAT, Ghasem (a.k.a. “GAO, Shan”), China; Iran; DOB 19 Jun 1961; nationality Iran; Additional Sanctions Information—Subject to Secondary Sanctions; Gender Male; Passport G9302650 (Iran) expires 04 Dec 2012; alt. Passport A0026483 (Iran) expires 25 Nov 2004 (individual) [NPWMD] [IFSR] (Linked To: BEIJING SHINY NIGHTS TECHNOLOGY DEVELOPMENT CO., LTD).

Designated pursuant to section 1(a)(iv) of E.O. 13382 for acting or purporting to act for or on behalf of, directly or indirectly, BEIJING SHINY NIGHTS TECHNOLOGY DEVELOPMENT CO., LTD, a person whose property and interests in property are blocked pursuant to E.O. 13382.

4. LI, Zeming, Zhejiang, China; DOB 22 May 1985; POB Zhejiang, China; nationality China; Additional Sanctions Information—Subject to Secondary Sanctions; Gender Male; Passport EE2360309 (China) issued 24 Aug 2018 expires 23 Aug 2028 (individual) [NPWMD] [IFSR] (Linked To: ZHEJIANG QINGJI IND. CO., LTD).

Designated pursuant to section 1(a)(iv) of E.O. 13382 for acting or purporting to act for or on behalf of, directly or indirectly, ZHEJIANG QINGJI IND. CO., LTD, a person whose property and interests in property are blocked pursuant to E.O. 13382.

5. QIN, Xutong, Ji Lin, China; DOB 29 Apr 1994; POB Ji Lin, China; nationality China; Additional Sanctions Information—Subject to Secondary Sanctions; Gender Female; Passport E77862399 (China) issued 19 Apr 2016 expires 18 Apr 2026 (individual) [NPWMD] [IFSR] (Linked To: HONG KONG KE.DO INTERNATIONAL TRADE CO., LIMITED).

Designated pursuant to section 1(a)(iv) of E.O. 13382 for acting or purporting to act for or on behalf of, directly or indirectly, HONG KONG KE.DO INTERNATIONAL TRADE CO., LIMITED, a person whose property and interests in property are blocked pursuant to E.O. 13382.

6. SHEN, Weisheng, Zhejiang, China; DOB 01 Nov 1957; POB Haimen, China; nationality China; Additional Sanctions Information—Subject to Secondary Sanctions; Gender Male; Passport G23381737 (China) issued 13 Jun 2007 expires 12 Jun 2017; National ID No. 330103195711011317 (China) (individual) [NPWMD] [IFSR] (Linked To: ZHEJIANG QINGJI IND. CO., LTD).

Designated pursuant to section 1(a)(iv) of E.O. 13382 for acting or purporting to act for or on behalf of, directly or indirectly, ZHEJIANG QINGJI IND. CO., LTD, a person whose property and interests in property are blocked pursuant to E.O. 13382.

7. WEI, Zunyi (a.k.a. WEI, Zun Yi; a.k.a. “WEI, David”), Beijing, China; DOB 20 Dec 1975; POB Shandong, China; nationality China; Additional Sanctions Information—Subject to Secondary Sanctions; Gender Male; Passport EE1650028 (China) issued 28 Aug 2018 expires 27 Aug 2028; National ID No. 370922197512201811 (China) (individual) [NPWMD] [IFSR] (Linked To: HONG KONG KE.DO INTERNATIONAL TRADE CO., LIMITED).

Designated pursuant to section 1(a)(iv) of E.O. 13382 for acting or purporting to act for or on behalf of, directly or indirectly, HONG KONG KE.DO INTERNATIONAL TRADE CO., LIMITED, a person whose property and interests in property are blocked pursuant to E.O. 13382.

Dated: June 6, 2023.
Andrea M. Gacki,
Director, Office of Foreign Assets Control, U.S. Department of the Treasury.

[FR Doc. 2023-12352 Filed 6-8-23; 8:45 am]

BILLING CODE 4810-AL-P